DEPARTMENT OF TRANSPORTATION

Surface Transportation Board

[STB Docket No. MC-F-21026]

Holland America Line Inc.—Control—Westours Motor Coaches, Inc., Evergreen Trails, Inc., Westmark Hotels of Canada, Ltd., Horizon Coach Lines, Ltd., and Discover Alaska Tours, Inc.

AGENCY: Surface Transportation Board, DOT.

ACTION: Notice Tentatively Approving Finance Transaction.

SUMMARY: On February 21, 2008, Holland America Line Inc. (HAL), a noncarrier that controls four regulated motor passenger carriers, Westours Motor Coaches, Inc. (Westours), Evergreen Trails, Inc., d/b/a Gray Line of Seattle (Evergreen), Westmark Hotels of Canada, Ltd. (Westmark), and Horizon Coach Lines, Ltd. (Horizon),¹ (collectively, applicants) filed an application under 49 U.S.C. 14303 for acquisition of control by HAL of a new motor passenger carrier, Discover Alaska Tours, Inc. (DAT),² and for continuance in control of Westours, Evergreen, Westmark, and Horizon. Persons wishing to oppose the application must follow the rules at 49 CFR 1182.5 and 1182.8. The Board has tentatively approved the transaction, and, if no opposing comments are timely filed, this notice will be the final Board action.

¹ HAL's control of the 4 carriers was approved by the Board in Holland America Line—Westours, Inc.—Control—Westours Motor Coaches, Inc., Evergreen Trails, Inc., Westmark Hotels of Canada Ltd., and Horizon Coach Lines Ltd., STB Docket No. MC-F-20988 (STB served Feb. 22, 2002).

² DAT's application for motor passenger carrier authority in MC-636105 is pending.

DATES: Comments must be filed by May 5, 2008. Applicants may file a reply by May 20, 2008. If no comments are filed by May 5, 2008, this notice is effective on that date.

ADDRESSES: Send an original and 10 copies of any comments referring to STB Docket No. MC-F-21026 to: Surface Transportation Board, 395 E. Street, SW., Washington, DC 20423-0001. In addition, send one copy of comments to applicants' representative: Jeremy Kahn, 1730 Rhode Island Ave., NW., Suite 810, Washington, DC 20036.

FOR FURTHER INFORMATION CONTACT: Joseph H. Dettmar, (202) 245-0395 [Federal Information Relay Service (FIRS) for the hearing impaired: 1-800-877-8339].

SUPPLEMENTARY INFORMATION: HAL currently controls four regulated motor passenger carriers, Westours (MC-118832), Evergreen (MC-107638), Westmark (MC-405618), and Horizon (MC-144339). Under the proposed transaction, HAL is seeking to acquire control of another motor passenger carrier, DAT, and to continue in control of the above four carriers. Applicants state that the annual aggregate gross operating revenues of the four carriers already controlled by HAL exceed the $2 million jurisdictional threshold of 49 U.S.C. 14303(g).

HAL states that it has decades of experience in operating tour-based services throughout the Pacific Northwest and has created DAT as a new entity to more effectively provide charter bus service in the southeast Alaska tour market, which has specialized service characteristics.

Under 49 U.S.C. 14303(b), the Board must approve and authorize a transaction we find consistent with the public interest, taking into consideration at least: (1) The effect of the transaction on the adequacy of transportation to the public; (2) the total fixed charges that result; and (3) the interest of affected carrier employees.

Applicants have submitted information, as required by 49 CFR 1182.2(a)(7), to demonstrate that the proposed acquisition of control is consistent with the public interest under 49 U.S.C. 14303(b). Applicants state that the proposed transaction will have no impact on the adequacy of transportation services available to the public, that the operations of the carriers involved will remain unchanged, that there are no fixed charges associated with the proposed transaction, and that no carrier employees will be adversely affected by the transaction. In addition, applicants have submitted all of the other statements and certifications required by 49 CFR 1182.2. Additional information, including a copy of the application, may be obtained from applicants' representative.

On the basis of the application, we find that the proposed acquisition of control is consistent with the public interest and should be authorized. If any opposing comments are timely filed, this finding will be deemed vacated, and unless a final decision can be made on the record as developed, a procedural schedule will be adopted to reconsider the application. See 49 CFR 1182.6(c). If no opposing comments are filed by the expiration of the comment period, this notice will take effect automatically and will be the final Board action.

Board decisions and notices are available on our Web site at http://www.stb.dot.gov.

This decision will not significantly affect either the quality of the human environment or the conservation of energy resources.

It is ordered:

1. The proposed finance transaction is approved and authorized, subject to the filing of opposing comments.

2. If timely opposing comments are filed, the findings made in this notice will be deemed as having been vacated.

3. This notice will be effective on May 5, 2008, unless timely opposing comments are filed.

4. A copy of this notice will be served on: (1) The U.S. Department of Transportation, Federal Motor Carrier Safety Administration, 1200 New Jersey Avenue, SE., Washington, DC 20590; (2) the U.S. Department of Justice, Antitrust Division, 950 Pennsylvania Avenue, NW., Washington, DC 20530; and (3) the U.S. Department of Transportation, Office of the General Counsel, 1200 New Jersey Avenue, SE., Washington, DC 20590.

Decided: March 17, 2008.
By the Board, Chairman Nottingham, Vice Chairman Mulvey, and Commissioner Buttrey.
Anne K. Quinlan,
Acting Secretary.

[FR Doc. E8-5772 Filed 3-20-08; 8:45 am]

BILLING CODE 4915-01-P